DEPARTMENT OF THE INTERIOR

Fish and Wildlife Service

[FWS-R8-ES-2016-N095; FXES11120800000-167-FF08ECAR00]

Endangered and Threatened Wildlife and Plants; Incidental Take Permit Application; Proposed Low-Effect Habitat Conservation Plan and Associated Documents; Community of San Pedro, City of Los Angeles, California

AGENCY: Fish and Wildlife Service, Interior.

ACTION: Notice of availability; request for comments.

SUMMARY: We, the U.S. Fish and Wildlife Service (Service), have received an application from Rolling Hills Preparatory School (applicant) for a 25-year incidental take permit for the endangered Palos Verdes blue butterfly pursuant to the Endangered Species Act of 1973, as amended (Act). We are requesting comments on the permit application and on the preliminary determination that the proposed Habitat Conservation Plan qualifies as a “low-effect” Habitat Conservation Plan, eligible for a categorical exclusion under the National Environmental Policy Act (NEPA) of 1969, as amended. The basis for this determination is discussed in the environmental action statement (EAS) and the associated low-effect screening form, which are also available for public review.

DATES: Written comments should be received on or before July 15, 2016.

ADDRESSES: Submitting Comments: You may submit comments by one of the following methods:

• U.S. Mail: Field Supervisor, Fish and Wildlife Service, Carlsbad Fish and Wildlife Office, 2177 Salk Avenue, Suite 250, Carlsbad, CA 92008.

• Fax: Field Supervisor, 760-431-9624.

Obtaining Documents: To request copies of the application, proposed HCP, and EAS, contact the Service immediately, by telephone at 760-431-9440 or by letter to the Carlsbad Fish and Wildlife Office (see ADDRESSES). Copies of the proposed HCP and EAS also are available for public inspection during regular business hours at the Carlsbad Fish and Wildlife Office (see ADDRESSES).

FOR FURTHER INFORMATION CONTACT: Ms. Karen Goebel, Assistant Field Supervisor, Carlsbad Fish and Wildlife Office (see ADDRESSES); telephone: 760-431-9440. If you use a telecommunications device for the deaf (TDD), please call the Federal Information Relay Service (FIRS) at 800-877-8339.

SUPPLEMENTARY INFORMATION: We, the U.S. Fish and Wildlife Service (Service), have received an application from Rolling Hills Preparatory School (applicant) for a 25-year incidental take permit for one covered species pursuant to section 10(a)(1)(B) of the Endangered Species Act of 1973, as amended (16 U.S.C. 1531 et seq., Act). The application addresses the potential “take” of the endangered Palos Verdes blue butterfly (Glaucopsyche lygdamus palosverdesensis) in the course of activities associated with the construction of educational facilities and active habitat management for the Palos Verdes blue butterfly, in the Community of San Pedro, City of Los Angeles, Los Angeles County, California. A conservation program to avoid, minimize, and mitigate for project activities would be implemented as described in the proposed Habitat Conservation Plan (HCP) by the applicant.

We are requesting comments on the permit application and on the preliminary determination that the proposed HCP qualifies as a “low-effect” HCP, eligible for a categorical exclusion under the National Environmental Policy Act (NEPA) of 1969, as amended. The basis for this determination is discussed in the environmental action statement (EAS) and associated low-effect screening form, which are also available for public review.

Background

Section 9 of the Act and its implementing Federal regulations prohibit the “take” of animal species listed as endangered or threatened. Take is defined under the Act as to “harass, harm, pursue, hunt, shoot, wound, kill, trap, capture, or collect listed animal species, or to attempt to engage in such conduct” (16 U.S.C. 1538). “Harm” includes significant habitat modification or degradation that actually kills or injures listed wildlife by significantly impairing essential behavioral patterns such as breeding, feeding, or sheltering (50 CFR 17.3). However, under section 10(a) of the Act, the Service may issue permits to authorize incidental take of listed species. “Incidental take” is defined by the Act as take that is incidental to, and not the purpose of, carrying out an otherwise lawful activity. Regulations governing incidental take permits for threatened and endangered species, respectively, are found in the Code of Federal Regulations at 50 CFR 17.22 and 50 CFR 17.32.

The applicant requests a 25-year permit under section 10(a)(1)(B) of the Act. If we approve the permit, the applicant anticipates taking Palos Verdes blue butterfly (Glaucopsyche lygdamus palosverdesensis) as a result of permanent impacts to 0.68 acre (ac) of habitat the species uses for breeding, feeding, and sheltering. The take from permanent impacts would be incidental to the applicant's activities associated with the construction of educational facilities within the former Palos Verdes Naval Housing Area in the Community of San Pedro, City of Los Angeles, California. Additional take due to temporary impacts may also occur within no more than 0.50 ac annually. The take from temporary impacts would be incidental to the applicant's habitat management activities within the 10.47-acre Reserve established for the Palos Verdes blue butterfly.

To minimize take of Palos Verdes blue butterfly by the project and offset impacts to its habitat, the applicant proposes to remove a paved parking lot within the Reserve and restore the site with 0.84 acre of Palos Verdes blue butterfly habitat. In addition, the applicant has committed to implementing a Habitat Management Plan (Appendix 1 in the HCP). The Habitat Management Plan identifies specific goals and objectives that will maintain or improve habitat value for the Palos Verdes blue butterfly. Finally, the applicant will continue to implement a series of measures developed to minimize indirect impacts to the Reserve from irrigation, lighting, and trespass as described in the HCP.

Proposed Action and Alternatives

The Proposed Action consists of the issuance of an incidental take permit for implementation of the proposed HCP, which includes measures to avoid, minimize, and mitigate impacts to the Palos Verdes blue butterfly. If we approve the permit, take of Palos Verdes blue butterfly would be authorized for the applicant's activities associated with the construction of educational facilities and ongoing habitat management. In the proposed HCP, the applicant considers a No Action Alternative. Under the No Action Alternative, no incidental take of Palos Verdes blue butterfly would occur, and there would be no long-term commitment to manage the Reserve to the standards described in the Habitat Management Plan.

Our Preliminary Determination

The Service has made a preliminary determination that the approval of the HCP and issuance of an incidental take permit qualify for categorical exclusion under the National Environmental Policy Act (NEPA) (42 U.S.C. 4321 et seq.), as provided by the Department of the Interior implementing regulations in part 46 of title 43 of the Code of Federal Regulations (43 CFR 46.205, 46.210, and 46.215), and that the HCP qualifies as a “low-effect” plan as defined by the Habitat Conservation Planning Handbook (November 1996).

We base our determination that a HCP qualifies as a low-effect plan on the following three criteria:

(1) Implementation of the HCP would result in minor or negligible effects on federally listed, proposed, and candidate species and their habitats;

(2) Implementation of the HCP would result in minor or negligible effects on other environmental values or resources; and

(3) Impacts of the HCP, considered together with the impacts of other past, present, and reasonably foreseeable similarly situated projects, would not result, over time, in cumulative effects to environmental values or resources that would be considered significant.

However, based upon our review of public comments that we receive in response to this notice, this preliminary determination may be revised.

Next Steps

We will evaluate the proposed HCP and comments we receive to determine whether the permit application meets the requirements and issuance criteria under section 10(a) of the Act (16 U.S.C. 1531 et seq.). We will also evaluate whether issuance of a section 10(a)(1)(B) incidental take permit would comply with section 7 of the Act by conducting an intra-Service consultation. We will use the results of this consultation, in combination with the above findings, in our final analysis to determine whether or not to issue a permit. If the requirements and issuance criteria under section 10(a) are met, we will issue the permit to the applicant for incidental take of Palos Verdes blue butterfly.

Public Comments

If you wish to comment on the permit application, proposed HCP, and associated documents, you may submit comments by any of the methods noted in the ADDRESSES section.

Public Availability of Comments

Before including your address, phone number, email address, or other personal identifying information in your comment, you should be aware that your entire comment—including your personal identifying information—may be made publicly available at any time. While you may ask us in your comment to withhold your personal identifying information from public review, we cannot guarantee that we will be able to do so.

Authority

We provide this notice under section 10 of the Act (16 U.S.C. 1531 et seq.) and NEPA regulations (40 CFR 1506.6).

G. Mendel Stewart,
Field Supervisor, Carlsbad Fish and Wildlife Office, Carlsbad, California.

[FR Doc. 2016-14126 Filed 6-14-16; 8:45 am]

BILLING CODE 4333-15-P